DEPARTMENT OF LABOR

Office of the Secretary

Submission for OMB Review: Comment Request

June 27, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Process Safety Management of Highly Hazardous Chemicals (PSM) (29 CFR 1910.119).

OMB Number: 1218-0200.

Frequency: On occasion; Annually; Every 3 years; and Every 5 years.

Type of Response: Recordkeeping and Third party disclosure.

Affected Public: Business or other for-profit; Federal Government; and State, local, or tribal government.

Number of Respondents: 37,970.

Number of Annual Responses: 8,134,631.

Estimated Time per Response: Varies by task.

Total Burden Hours: 47,852,750.

Total Annualized capital/startup costs: $0.

Total Annual Costs (operating/maintaining systems or purchasing services): $0.

Description: The Clean Air Act Amendments (“CAAA”) of 1990 required the Occupational Safety and Health Administration (“OSHA” or “the Agency”) to develop a standard on Process Safety Management of Highly Hazardous Chemicals (“the PSM Standard” or “the Standard”) containing certain minimum requirements to prevent accidental releases of chemicals that could pose a threat to employees. Under the authority granted by the Act, OSHA published the PSM Standard at 29 CFR 1910.119. The Standard, rather than setting specific engineering requirements, emphasizes the application of documented management controls; using the controls, companies address the risk associated with handling or working near highly hazardous chemicals. The Standard contains a number of paperwork requirements such as developing written process safety information, procedures and management practices, to update operating procedures and safe work practices, to evaluate safety history and policies of contractors, to conduct periodic evaluations, and to document employee training.

Ira L. Mills,
Departmental Clearance Officer.

[FR Doc. E6-10632 Filed 7-6-06; 8:45 am]

BILLING CODE 4510-26-P